DEPARTMENT OF HOMELAND SECURITY

Coast Guard

[Docket No. USCG-2023-0292]

National Chemical Transportation Safety Advisory Committee Meeting; November 2023 Meeting

AGENCY: Coast Guard, Department of Homeland Security.

ACTION: Notice of cancellation.

SUMMARY: The meeting of the National Chemical Transportation Safety Advisory Committee scheduled for November 28 through 30, 2023, from 9 a.m. until 5 p.m. Central Standard Time (CST) is cancelled.

DATES: The cancelled meeting was announced in the Federal Register on Tuesday, October 10, 2023, at 88 FR 69936.

FOR FURTHER INFORMATION CONTACT: Lieutenant Ethan T. Beard, Alternate Designated Federal Officer of the National Chemical Transportation Safety Advisory Committee, telephone, (202) 372-1419, or email Ethan.T.Beard@uscg.mil.

SUPPLEMENTARY INFORMATION: The Committee acts solely in an advisory capacity to the Secretary of the Department of Homeland Security through the Commandant of the Coast Guard and the Director of Commercial Regulations and Standards on matters related to the safe and secure marine transportation of hazardous materials.

Notice of cancellation of this meeting is given under the Federal Advisory Committee Act (5 U.S.C., ch. 10).

Dated: October 23, 2023.
Benjamin J. Hawkins,
Acting Director of Commercial Regulations and Standards.

[FR Doc. 2023-23691 Filed 10-26-23; 8:45 am]

BILLING CODE 9110-04-P